DEPARTMENT OF HEALTH AND HUMAN SERVICES

National Institutes of Health

Center for Scientific Review; Amended Notice of Meeting

Notice is hereby given of a change in the meeting of the Clinical and Integrative Diabetes and Obesity Study Section, October 10, 2013, 8:00 a.m. to October 10, 2013, 5:00 p.m., The Allerton Hotel, 701 North Michigan Avenue, Chicago, IL 60611 which was published in the Federal Register on September 11, 2013, 78 FR 176 pgs. 55752-55753.

The meeting will be held at the National Institutes of Health, 6701 Rockledge Dr., Bethesda, MD 20892. The meeting will start on December 18, 2013 at 7:00 a.m. and will end on December 19, 2013 at 7:00 p.m. The meeting is closed to the public.

Dated: October 24, 2013.
Carolyn A. Baum,
Program Analyst, Office of Federal Advisory Committee Policy.

[FR Doc. 2013-25654 Filed 10-29-13; 8:45 am]

BILLING CODE 4140-01-P